JUDICIAL CONFERENCE OF THE UNITED STATES

Committee on Rules of Practice and Procedure; Meeting of the Judicial Conference

AGENCY: Judicial Conference of the United States.

ACTION: Committee on Rules of Practice and Procedure; notice of open meeting.

SUMMARY: The Committee on Rules of Practice and Procedure will hold an in-person meeting in hybrid format with remote attendance options on January 6, 2026 in Washington, DC. The meeting is open to the public for observation but not participation. Please see the Supplementary Information section in this notice for instructions on observing the meeting.

DATES: January 6, 2026 (meeting date) and December 30, 2025 (registration deadline for in-person observation).

ADDRESSES: An agenda and supporting materials will be posted at least 7 days in advance of the meeting at: https://www.uscourts.gov/forms-rules/records-rules-committees/agenda-books.

FOR FURTHER INFORMATION CONTACT: Carolyn A. Dubay, Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION: To observe the meeting in person, individuals must contact the office listed above by 5 p.m. (eastern time) on December 30, 2025. After this deadline, only remote observation is permitted. Remote registration is available until the meeting date, provided it is completed before the projected end time.

(Authority: 28 U.S.C. 2073.)

Dated: November 13, 2025.
Shelly L. Cox,
Management Analyst, Rules Committee Staff.

[FR Doc. 2025-20025 Filed 11-17-25; 8:45 am]

BILLING CODE 2210-55-P